NATIONAL TRANSPORTATION SAFETY BOARD

Sunshine Act Meeting

TIME AND DATE: 9:30 a.m., Tuesday, July 12, 2011.

PLACE: NTSB Conference Center, 429 L'Enfant Plaza, SW., Washington, DC 20594.

STATUS: The two items are open to the public.

Matters To Be Considered:

8193A Marine Accident Report—Collision Between U.S. Coast Guard Vessel CG 33118 and Sea Ray Recreational Vessel CF 2607 PZ, San Diego Harbor, California, December 20, 2009.

8102A Aircraft Accident Report—Loss of Control While Maneuvering, Pilatus PC-12, N128CM, Butte, Montana, March 22, 2009.

News Media Contact: Telephone: (202) 314-6100.

The press and public may enter the NTSB Conference Center one hour prior to the meeting for set up and seating.

Individuals requesting specific accommodations should contact Rochelle Hall at (202) 314-6305 by Friday, July 8, 2011.

The public may view the meeting via a live or archived webcast by accessing a link under “News & Events” on the NTSB home page at http://www.ntsb.gov.

FOR MORE INFORMATION CONTACT: Candi Bing, (202) 314-6403 or by e-mail at bingc@ntsb.gov.

Dated: June 24, 2010.
Candi R. Bing,
Federal Register Liaison Officer.

[FR Doc. 2011-16297 Filed 6-24-11; 4:15 pm]

BILLING CODE 7533-01-P